DEPARTMENT OF AGRICULTURE

Forest Service

Tongass National Forest Wrangell Ranger District; Alaska; Wrangell Island Project Environmental Impact Statement

AGENCY: Forest Service, USDA.

ACTION: Corrected Notice of Intent to prepare an environmental impact statement.

SUMMARY: A Notice of Intent (NOI) for this project was first published in the Federal Register (75 FR 81210) on December 27, 2010. Subsequent NOIs were published in the Federal Register noting the passage of time and procedural changes. This NOI is being published (1) to update the project schedule, (2) to note that M. Earl Stewart is the new Forest Supervisor of the Tongass National Forest and is the Responsible Official for this Project, (3) to note that the Proposed Action contains fewer acres for timber harvest, and (4) that the Forest Service is no longer proposing project-specific Forest Plan amendments in the alternatives.

DATES: Comments submitted previously will be considered in the analysis. This corrected NOI triggers a public comment opportunity during which persons wishing to obtain standing under the pre-decisional administrative review, or “objection” process (36 CFR 218, Subpart B), may submit timely, written comments regarding the project. New or additional comments should be received by the Wrangell Ranger District by November 27, 2015, 30 days from date of publication of this Corrected NOI in the Federal Register. The draft environmental impact statement is expected in February 2016, and the final environmental impact statement is expected in May 2016.

ADDRESSES: Send written comments to: Tongass National Forest, c/o Andrea Slusser, P.O. Box 51, Wrangell, AK 99929, Attn: Wrangell Island Project EIS. Comments may be hand-delivered to the Wrangell Ranger District, 525 Bennett Drive, Wrangell, AK 99929, Attn: Wrangell Island Project EIS. Comments may also be sent via email to: wrangell_island_project_eis@fs.fed.us, or via facsimile to 907-874-7595, Attn: Wrangell Island Project EIS.

In all correspondence, please include your name, address, and organization name if you are commenting as a representative of an organization.

FOR FURTHER INFORMATION CONTACT: Andrea Slusser, Team Leader; Wrangell Ranger District, P.O. Box 51, Wrangell, AK 99929, 907-874-2323.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Wrangell Island Project is to respond to the goals and objectives identified by the Tongass Land and Resource Management Plan (Forest Plan) to guide timber management to support the local and regional economies of Southeast Alaska, while moving the Wrangell Island Project Area towards the desired future condition for all resources.

The underlying need for the Wrangell Island Project comes from the Forest Service's obligation, subject to applicable law, to seek to provide a supply of timber from the Tongass National Forest that meets market demand annually and for the planning cycle, and to restore and improve forest resources to a condition where they provide increased benefits to society.

This project would contribute to the orderly flow of timber to large and small timber purchasers, mill operators, and value-added wood product industries in Southeast Alaska and benefit the local and regional economies of Wrangell and Southeast Alaska while also improving forest resource conditions. This project would help provide a reliable, long-term supply of “bridge” timber that would support local jobs and facilitate the industry transition to a sustainable wood product industry based on young-growth management on the Tongass National Forest.

Proposed Action

The Forest Service is proposing a multi-year project involving timber harvest and associated road construction and forest restoration activities. The proposed action includes the harvest of timber from approximately 5,290 acres of forested land. The harvest would produce an estimated 73 million board feet (MMBF) of sawtimber and utility wood that could be made available to industry. Timber harvest would occur with both even-aged (clearcut) and uneven-aged (partial cut) harvest using cable, helicopter and ground-based methods.

The timber harvest would require approximately 18 miles of National Forest Road construction, six miles of reconstruction and approximately 13 miles of temporary road construction. Existing road systems and log transfer facilities would also be used as needed to transport the timber.

Integrated restoration activities associated with the road system used for harvest would include road maintenance and improvements, invasive species treatments, erosion control, and fish passage improvements. All activities would be conducted in a manner conducive to moving resources towards the desired conditions described in the Forest Plan.

Possible Alternatives

In addition to the proposed action and the no action alternative, the Forest Service is considering a range of action alternatives with varying levels of harvest and road construction based on public input received to date. Because the Forest Plan is now undergoing an amendment process, the project will not propose any project-specific Forest Plan amendments.

Responsible Official

The responsible official for this project is M. Earl Stewart, Forest Supervisor, Tongass National Forest, Federal Building, 648 Mission Street, Ketchikan, Alaska 99901.

Nature of Decision To Be Made

The responsible official will decide: (1) The estimated timber volume to make available from the project, as well as the location, design, and scheduling of timber harvest, road construction and reconstruction, and silvicultural practices used; (2) road and access management; (3) mitigation measures and monitoring requirements; and (4) whether there may be a significant restriction on subsistence uses.

Preliminary Issues

The initial scoping identified preliminary issues and concerns which may be analyzed in the EIS to disclose potential effects of the project on the following: Timber supply, timber sale economics, supporting the timber industry through the transition from old-growth harvest to young-growth management, road and access management, economic and rural stability, wildlife habitat, aquatic habitat (fisheries/hydrology/watersheds), soil productivity and slope stability, invasive species, heritage resources, roadless area characteristics, scenery, recreation, subsistence use, and climate change and carbon cycling. Preliminary key issues identified include timber supply, timber demand, scenery, wildlife habitat and access management.

Preliminary List of Permits or Licenses Required

All necessary permits would be obtained prior to project implementation, and may include the following:

U.S. Environmental Protection Agency

• Review Spill Prevention Control and Countermeasure Plan State of Alaska, Department of Environmental Conservation;

• Solid Waste Disposal Permit State of Alaska, Department of Natural Resources;

• Authorization for occupancy and use of tidelands and submerged lands.

Scoping Process

The initial scoping period started when the NOI was published in 2010. This proposal has been listed on the Tongass National Forest Schedule of Proposed Actions since January, 2011. An updated scoping document has been posted on the Tongass National Forest public Web site at http://www.fs.usda.gov/goto/R10/Tongass/WrangellEIS, and a project update letter will be mailed out to those who previously commented.

It is important that reviewers provide their comments at such times and in such manner that they are useful to the agency's preparation of the environmental impact statement. Therefore, comments should be provided prior to the close of the comment period and should clearly articulate the reviewer's concerns and contentions. Comments received in response to this solicitation, including names and addresses of those who comment, will be part of the public record. Comments submitted anonymously will also be accepted and considered.

Dated: October 19, 2015.
M. Earl Stewart,
Forest Supervisor.

[FR Doc. 2015-27204 Filed 10-26-15; 8:45 am]

BILLING CODE 3410-11-P